DEPARTMENT OF TRANSPORTATION

Surface Transportation Board

[STB Finance Docket No. 33891]

Central Gulf Railway, Inc.—Lease and Operation Exemption—Terminal Railway Alabama State Docks

Central Gulf Railway, Inc. (CGR), a noncarrier, has filed a verified notice of exemption under 49 CFR 1150.31 to lease certain rail lines from the Terminal Railway Alabama State Docks (TASD), an agency of the State of Alabama, and operate either directly or through the use of a contract agent approximately 0.46 miles of rail line. The rail lines to be leased are located in TASD's Frascati Yard in Mobile, AL. CGR will be leasing Track Nos. 1, 2, and 4, beginning at a point of interchange with TASD 90 feet east of Ezra Trice Boulevard and extending east 590 feet for Track Nos. 1 and 2 and, 1271 feet for Track No. 4. CGR certifies that its projected revenues will not exceed those that would qualify it as a Class III carrier.

The transaction is scheduled to be consummated on or after June 30, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33891, must be filed with the Surface Transportation Board, Office of the Secretary, Case Control Unit, 1925 K Street, NW, Washington, DC 20423-0001. In addition, one copy of each pleading must be served on Karl Morell, Esq., BALL JANIK, LLP, 1455 F Street, NW, Suite 225, Washington, DC 20005.

Board decisions and notices are available on our website at “WWW.STB.DOT.GOV.”

Decided: June 27, 2000.
By the Board, David M. Konschnik, Director, Office of Proceedings.
Vernon A. Williams,
Secretary.

[FR Doc. 00-16857 Filed 7-5-00; 8:45 am]

BILLING CODE 4915-00-P